DEPARTMENT OF ENERGY

Federal Energy Regulatory Commission

[Docket No. RM05-30-000]

Rules Concerning Certification of the Electric Reliability Organization; and Procedures for the Establishment, Approval, and Enforcement of Electric Reliability Standards; Supplemental Notice of Technical Conference

November 15, 2005.

As announced in a Notice of Technical Conference issued on November 3, 2005, in the above referenced proceeding, two technical conferences will be held in the offices of the Commission, 888 First Street, NE., Washington, DC. All interested persons may attend, and registration is not required. These will be staff conferences, but Commissioners may attend.

The first technical conference is on November 18, 2005, from 9:30 a.m. until approximately 3 p.m. Eastern Time. This conference will be held in the Commission Meeting Room on the second floor of the Commission's office building. Attached is the agenda for this conference.

A second technical conference is tentatively scheduled for Friday, December 9, 2005. The agenda for that conference will be provided at a later time.

Transcripts of the conference will be immediately available from Ace Reporting Company (202-347-3700 or 1-800-336-6646) for a fee. They will be available for the public on the Commission's eLibrary system seven calendar days after the Commission receives the transcript.

A free webcast of this event is available through http://www.ferc.gov. Anyone with Internet access who desires to view this event can do so by navigating to http://www.ferc.gov's Calendar of Events and locating this event in the Calendar. The event will contain a link to its webcast. The Capitol Connection provides technical support for the webcasts. It also offers access to this event via television in the DC area and via phone bridge for a fee. If you have any questions, visit http://www.CapitolConnection.org or contact Danelle Perkowski or David Reininger at 703-993-3100.

Commission conferences are accessible under section 508 of the Rehabilitation Act of 1973. For accessibility accommodations please send an e-mail to accessibility@ferc.gov or call toll free 866-208-3372 (voice) or 202-208-1659 (TTY), or send a FAX to 202-208-2106 with the required accommodations.

For more information about the conference, please contact Yvonne Bartoli at (202) 502-6054 (yvonne.bartoli@ferc.gov) or Sarah McKinley at (202) 502-8004 (sarah.mckinley@ferc.gov).

Magalie R. Salas,
Secretary.

Appendix A

Current and Possible Future Procedures for Establishment and Approval of Electric Reliability Standards

Technical Conference Agenda, November 18, 2005, 9:30 a.m.-3 p.m.

9:30 a.m.—Opening Remarks

Joseph T. Kelliher, FERC Chairman

9:45 a.m.—Introductions

Joseph McClelland, Director, Division of Reliability, Office of Markets, Tariffs, and Rates, FERC

9:50 a.m.—Panel I: Standard Setting: The Current NERC and Regional Council Roles and Future ERO and Regional Entity Roles—Views from NERC, Utilities, a Regional Council, and Canada

Representatives of NERC, utilities, a regional council, and Canada will provide their views on:

• How you respond currently to NERC and Regional Council actions and how you plan to respond to the ERO's actions as it establishes, implements, and enforces reliability standards.

• The challenges you might face regarding any new process.

Panelists:

Rick Sergel, President-CEO, North American Electric Reliability Council

Michael G. Morris, Chairman-President-CEO, American Electric Power, Inc.

David Mohre, Executive Director, Energy and Power Division, National Rural Electric Cooperative Association

Allen Mosher, Director of Policy Analysis, American Public Power Association

Sam R. Jones, Vice President-Chief Operating Officer, Electric Reliability Council of Texas, Inc.

Terry Boston, Executive Vice President, Power System Operations, Tennessee Valley Authority

Kim Warren, Manager, Regulatory Affairs, Ontario IMO

11:15 a.m.—Break

11:30 a.m.—Panel II: Standard Setting: The Views of Regional Councils on the Role of Regional Entities Under the Energy Policy Act of 2005

Under the EPAct of 2005, Regional Entities may propose regional standards or variances to the ERO, which after its review can then propose regional standards to the Commission for its approval. In addition, the ERO may delegate its enforcement authority to Regional Entities.

Representatives from regional reliability councils will give their perspectives on the following:

• What preparations are you making regarding the implementation of EPAct 2005?

• Are there any unique circumstances in the region that may impact the implementation of ERO standards? If so, what are they?

• What are your views on regional standards/variances?

• What are your views on regional compliance/enforcement?

• What are your views on the terms that are necessary to incorporate into the delegation agreements with the ERO?

• What challenges can you identify regarding delegation agreements with the ERO?

Panelists:

Paul Johnson, Director, Transmission System Engineering and Maintenance Management, American Electric Power (Representing Reliability First)

Edward Schwerdt, Executive Director, Northeast Power Coordinating Council William F. Reinke, President-CEO, Southeastern Electric Reliability Council, Inc.

Ken Wiley, President-CEO, Florida Reliability Coordinating Council, Inc.

Charles Yeung, Executive Director, Interregional Affairs, Southwest Power Pool, Inc.

Daniel Skaar, President, Midwest Reliability Organization

12:45 p.m.—1:30 p.m. LUNCH

1:30 p.m.—Panel III: Review of Industry Standards

Standards are developed by many industries throughout the United States to provide a common approach to promote best practices throughout that industry. This panel will elicit views from several different industry representatives and a regional council on their standards development process within the electric industry and what process the ERO might follow.

Panelists will provide their views on the following questions:

• What are the processes you use to develop standards?

• What do you believe are your successes? What are your challenges?

• How do you improve upon standards that are found to be deficient?

• What are the lessons learned from your process that would be useful for the Commission to utilize to assure high reliability in the electric power system?

Panelists:

Rick Sergel, President-CEO, North American Electric Reliability Council

Richard Wakefield, Past Chairman, Energy Policy Committee, Institute of Electrical and Electronics Engineers-USA

Richard Barrett, Office of Research, Nuclear Regulatory Commission

Bruce Ellsworth, Chair, New York State Reliability Council

Louise McCarren, CEO, Western Electricity Coordinating Council

2:45 p.m.—Concluding Remarks

[FR Doc. E5-6429 Filed 11-21-05; 8:45 am]

BILLING CODE 6717-01-P